DEPARTMENT OF TRANSPORTATION

Federal Aviation Administration

14 CFR Part 71

[Docket No. FAA-2006-24448; Airspace Docket No. 06-AGL-02]

Establishment of Class E Airspace; Mineral Point, WI

AGENCY: Federal Aviation Administration (FAA), DOT.

ACTION: Direct final rule; request for comments; withdrawal.

SUMMARY: This action withdraws the direct final rule, request for comment, published in the Federal Register Thursday, October 5, 2006 (71 FR 58738). In that action, the FAA will establish Class E Airspace in Mineral Point, WI. The FAA has determined that withdrawal of the direct final rule is warranted as a result of objections raised during the comment period.

DATES: Effective Date: 0901 UTC, January 18, 2007.

FOR FURTHER INFORMATION CONTACT: Steve Davis, FAA Terminal Operations, Central Service Office, Airspace and Procedures Branch, AGL-530, Federal Aviation Administration, 2300 East Devon Avenue, Des Plaines, Illinois 60018; telephone (847) 294-7131.

SUPPLEMENTARY INFORMATION: On October 5, 2006, a direct final rule, request for comment, was published in the Federal Register to amend Title 14 Code of Federal Regulations (14 CFR) part 71 to establish Class E Airspace in Mineral Point, WI (71 FR 58738). As a result of objections raised during the comment period, the direct final rule is being withdrawn.

List of Subjects in 14 CFR Part 71

Airspace, Incorporation by reference, Navigation (air).

The Withdrawal

In consideration of the foregoing, the direct final rule for Federal Register Docket No. FAA-2006-24448, Airspace Docket No. 06-AGL-02, as published in the Federal Register on October 5, 2006 (71 FR 58738), is hereby withdrawn.

Authority: 49 U.S.C. 106(g), 40103, 40113, 40120; E.O. 10854; 24 FR 9565, 3 CFR, 1959-1963 Comp., p. 389.

Issued in Fort Worth, Texas, on November 21, 2006.
Walter L. Tweedy,
Acting Manager, System Support Group, ATO Central Service Area.

[FR Doc. 06-9531 Filed 12-5-06; 8:45 am]

BILLING CODE 4910-13-M